DEPARTMENT OF ENERGY

North American Energy Working Group

AGENCY: Department of Energy.

ACTION: Notice of postponement of public workshop.

SUMMARY: On January 17, 2002, the United States delegation to the North American Energy Working Group's Electricity Regulatory Experts Group published a notice of a public workshop to be held at the Washington, DC headquarters of the Department of Energy, in Room 1E-245, on February 13, 2002 from 9 a.m. until 4 p.m., and a request for comments, 67 FR 2423. The workshop will be postponed until further notice because the draft discussion paper of the Electricity Regulatory Issues Group of Experts, which was to form the basis of the workshop discussions, is not yet ready for public dissemination. In addition, it is requested that no further comments be submitted pursuant to the January 17, 2002 notice.

Issued in Washington, DC, on February 4, 2002.
Vicky Bailey,
Assistant Secretary, Office of Policy and International Affairs.

[FR Doc. 02-3087 Filed 2-7-02; 8:45 am]

BILLING CODE 6450-01-M